DEPARTMENT OF COMMERCE

Foreign-Trade Zones Board

[Order No. 1547]

Grant of Authority for Subzone Status; Medline Industries, Inc. (Medical Supply Distribution and Processing); Mundelein, Waukegan, and Libertyville, IL

Pursuant to its authority under the Foreign-Trade Zones Act of June 18, 1934, as amended (19 U.S.C. 81a-81u), the Foreign-Trade Zones Board (the Board) adopts the following Order:

Whereas, the Foreign-Trade Zones Act provides for “* * * the establishment * * * of foreign-trade zones in ports of entry of the United States, to expedite and encourage foreign commerce, and for other purposes,” and authorizes the Foreign-Trade Zones Board to grant to qualified corporations the privilege of establishing foreign-trade zones in or adjacent to U.S. Customs and Border Protection ports of entry;

Whereas, the Board's regulations (15 CFR Part 400) provide for the establishment of special-purpose subzones when existing zone facilities cannot serve the specific use involved, and when the activity results in a significant public benefit and is in the public interest;

Whereas, the Illinois International Port District, grantee of Foreign-Trade Zone 22, has made application for authority to establish special-purpose subzone status at the medical supply distribution and processing facilities of Medline Industries, Inc., in Mundelein, Waukegan, and Libertyville, Illinois (Docket 12-2007, filed 3-28-2007);

Whereas, notice inviting public comment was given in the Federal Register (72 FR 16763, 4-5-2007); and

Whereas, the Board adopts the findings and recommendations of the examiner's report, and finds that the requirements of the FTZ Act and Board's regulations would be satisfied, and that approval of the application would be in the public interest if approval were subject to restriction;

Now, therefore, the Board hereby grants authority for subzone status for activity related to medical supply distribution and processing at the Medline Industries, Inc., facilities located in Mundelein, Waukegan, and Libertyville, Illinois (Subzone 22O), as described in the application and Federal Register notice, subject to the FTZ Act and the Board's regulations, including Section 400.28, and further subject to a restriction requiring that certain foreign-origin textile and apparel products ¹ must be admitted to the subzone under privileged foreign status (19 CFR 146.41) or domestic status (19 CFR 146.43).

¹ Textile and apparel products that must be admitted to Subzone 22O in privileged foreign status or domestic (Duty-paid) status: 4202.92.9026, 5207.10, 5207.90, 5208.11, 5208.12, 5208.13, 5208.19, 5208.21, 5208.21.6090, 5208.22, 5208.29, 5208.31, 5208.32, 5208.33, 5208.39, 5208.41, 5208.42, 5208.43, 5208.49, 5208.51, 5208.52, 5208.59, 5602.10, 5602.21, 5602.29, 5602.90, 5603.11, 5603.12, 5603.13, 5603.14, 5603.91, 5603.92, 5603.12.0090, 5603.93, 5806.31, 5806.10, 5806.20, 5806.31, 5806.32, 5806.39, 5906.91.25, 5906.99.25, 6111.20, 6111.30, 6111.90, 6117.10, 6117.80.30, 6117.80.95, 6117.90, 6207.11, 6207.19, 6207.21, 6207.22, 6207.29, 6207.91, 6207.99, 6208.11, 6208.19, 6208.21, 6208.22, 6208.29, 6210.10, 6210.20.50, 6210.20.90, 6210.30, 6210.40, 6210.50.50, 6210.50.90, 6211.11, 6211.12, 6211.20, 6211.32, 6211.33, 6211.39, 6211.41, 6211.42, 6211.43, 6211.49, 6301.10, 6301.20, 6301.30, 6301.40, 6301.90, 6302.10, 6302.21, 6302.22, 6302.31, 6302.32, 6302.39, 6302.40, 6302.51, 6302.53, 6302.59, 6302.60, 6302.91, 6302.93, 6302.99, 6307.10, 6307.90.

Signed at Washington, DC, this 19th day of March, 2008.
David M. Spooner,
Assistant Secretary of Commerce for Import Administration, Alternate Chairman, Foreign-Trade Zones Board.

[FR Doc. E8-6707 Filed 3-31-08; 8:45 am]

BILLING CODE 3510-DS-P